DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESAC) will hold its ninth meeting. The meeting location is the U.S. Geological Survey, John Wesley Powell National Center, Rm. 3B457, 12201 Sunrise Valley Drive, Reston, Virginia 20192. The Committee is comprised of members from academia, industry, and State government. The Committee shall advise the Director of the U.S. Geological Survey (USGS) on matters relating to the USGS's participation in the National Earthquake Hazards Reduction Program.

The Committee will review the overall direction of the U.S. Geological Survey's Earthquake Hazards Program in the current and next fiscal years. They will also discuss the reauthorization of the National Earthquake Hazards Reduction Program.

Meetings of the Scientific Earthquake Studies Advisory Committee are open to the public.

DATES: January 11, 2005, commencing at 9 a.m. and adjourning at 5 p.m. on January 12, 2005.

FOR FURTHER INFORMATION CONTACT: Dr. David Applegate, U.S. Geological Survey, MS 905, 12201 Sunrise Valley Drive, Reston, Virginia 20192, (703) 648-6714.

Dated: December 17, 2004.
James F. Devine,
Senior Advisor for Science Applications.

[FR Doc. 04-28244 Filed 12-27-04; 8:45 am]

BILLING CODE 4310-Y7-M